DEPARTMENT OF TRANSPORTATION

Federal Aviation Administration

Notice of Intent To Rule on Request To Amend an Approved Application To Impose and Use the Revenue From a Passenger Facility Charge (PFC) at Lovell Field Airport, Chattanooga, TN

AGENCY: Federal Aviation Administration (FAA), DOT.

ACTION: Notice of intent to rule on a request to amend an approved PFC application.

SUMMARY: The FAA proposes to rule and invites public comment on the request to amend the approved application to impose and use the revenue from a PFC at Lovell Field Airport under the provisions of the Aviation Safety and Capacity Expansion Act of 1990 (Title IX of the Omnibus Budget Reconciliation Act of 1990) (Pub. L. 101-508) and Part 158 of the Federal Aviation Regulations (14 CFR part 158).

DATES: Comments must be received on or before September 28, 2000.

ADDRESSES: Comments on this request may be mailed or delivered in triplicate to the FAA at the following address: Memphis Airports District Office, 3385 Airways Blvd., Suite 302, Memphis, Tennessee 36116-3841.

In addition, one copy of any comments submitted to the FAA must be mailed or delivered to Hugh Davis, President of the Chattanooga Metropolitan Airport Authority at the following address: 1000 Airport Road, Suite 14, Chattanooga, Tennessee 37421.

Air carriers and foreign air carriers may submit copies of written comments previously provided to the Chattanooga Metropolitan Airport Authority under § 158.23 of part 158.

FOR FURTHER INFORMATION CONTACT: Cager Swauncy, Program Manager, Memphis Airports District Office, 3385 Airways Blvd., Suite 302, Memphis, Tennessee 38116-3841, (901) 544-3495, ext. 20. The request may be reviewed in person at this same location.

SUPPLEMENTARY INFORMATION: The FAA proposes to rule and invites public comment on the request to amend the application to impose and use the revenue from a PFC at Lovell Field Airport under the provisions of the Aviation Safety and Capacity Expansion Act of 1990 (Title IX of the Omnibus Budget Reconciliation Act of 1990) (Pub. L. 101-508) and Part 158 of the Federal Aviation Regulations (14 CFR part 158).

On July 27, 2000, the FAA received the request to amend the application to impose and use the revenue from a PFC submitted by Chattanooga Metropolitan Airport Authority within the requirements of § 158.25 of part 158. The FAA will approve or disapprove the amendment, in whole or in part, no later than November 24, 2000.

The following is a brief overview of the request.

PFC Application Amendment No.: 93-01-C-02-CHA.

Proposed increase in the PFC level: From $3.00 to $4.50.

Proposed increase in the total estimated PFC revenue: From $8,568,925 to $9,550,221.

Proposed charge effective date: February 1, 2001.

Proposed charge expiration date: July 1, 2005.

Proposed altered description of approved project(s): Project no. PWE 1.1 (Terminal Improvements) has been increased to pay for the eligible debt service.

Any person may inspect the request in person at the FAA office listed above under FOR FURTHER INFORMATION CONTACT.

In addition, any person may, upon request, inspect the request, notice and other documents germane to the request in person at the Chattanooga Metropolitan Airport Authority.

Issued in Memphis, Tennessee on August 22, 2000.
LaVerne F. Reid,
Manager, Memphis Airports District Office, Southern Region.

[FR Doc. 00-22042 Filed 8-28-00; 8:45 am]

BILLING CODE 4910-13-M